DEPARTMENT OF COMMERCE

International Trade Administration

Marketing Data Form; Proposed Collection; Comment Request

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before December 17, 2001.

ADDRESSES: Direct all written comments to Madeleine Clayton, Departmental Paperwork Clearance Officer, (202) 482-3129, Department of Commerce, Room 6086, 14th & Constitution Avenue, NW, Washington, DC 20230 (or via the Internet at MClayton@doc.gov.)

FOR FURTHER INFORMATION CONTACT: Request for additional information or copies of the information collection instrument and instructions should be directed to: John Klingelhut, U.S & Foreign Commercial Service, Export Promotion Services, Room 2810, 14th & Constitution Avenue, NW, Washington, DC 20230; Phone number: (202) 482-4231, and fax number: (202) 482-0115.

SUPPLEMENTARY INFORMATION

I. Abstract

Information about U.S. Exhibition, Trade Mission and Matchmaker Trade Delegation participants and their products is an absolute necessity in order to publicize and promote their participation in these export promotion events. The Marketing Data Form (MDF) provides information necessary to produce export promotion brochures and directories, and to arrange, on behalf of participants, appointments with key prospective buyers, agents, distributors, or government officials. Specific information is also required regarding participants; objectives as to agents, distributors, joint venture or licensing partners and any special requirements for these, e.g. physical facilities, technical capabilities, financial strength, staff, representation of complementary lines, etc.

II. Method of Data Collection

Form ITA-466P is sent by request to U.S. firms. Applicant firms complete the form and forward it to the Department of Commerce exhibition manager several weeks prior to the event.

III. Data

OMB Number: 0625-0047.

Form Number: ITA-466P.

Type of Review: Regular Submission.

Affected Public: Business or other for-profit.

Estimated Number of Respondents: 4,000.

Estimated Time Per Response: 45 minutes.

Estimated Total Annual Burden Hours: 3,000 hours.

Estimated Total Annual Costs: The estimated annual cost for this collection is $135,000.00 ($65,000.00 for respondents and $70,000.00 for the federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: October 12, 2001.
Madeleine Clayton,
Departmental Paperwork Clearance Officer, Office of the Chief Information Officer.

[FR Doc. 01-26113 Filed 10-16-01; 8:45 am]

BILLING CODE 3510-FP-P